DEPARTMENT OF ENERGY

Federal Energy Regulatory Commission

[Docket No. RP03-489-000]

Vector Pipeline L.P.; Notice of Proposed Change in FERC Gas Tariff

June 3, 2003.

Take notice that on May 30, 2003, Vector Pipeline L.P. tendered for filing to become part of its FERC Gas Tariff, Volume No. 1, the tariff sheets listed on Appendices A-D to the filing, to be effective July 1, 2003. In addition, Vector is proposing to add two new firm transportation services to its tariff.

Vector states that the purpose of this filing is to fulfill its obligation under Ordering Paragraph (I) of the certificate order issued May 27, 1999, in Docket Nos. CP98-131-000, et al. Ordering Paragraph (I) required Vector to make a Natural Gas Act (NGA) section 4 rate filing within three years from its in-service date either justifying the existing rates or proposing alternative rates.

Vector's in-service date was December 1, 2000. Vector states that its filing satisfies that requirement.

Vector is requesting an increase in the recourse rates for service under Rate Schedules FT-1, IT-1, and PALS, based on a cost of service of $134,911,668. Vector states that the presently pending rate for Rate Schedule TTS service in Docket No. RP02-479-002 and the existing rate for Rate Schedule MBA service are unchanged by this filing. Vector also is proposing recourse rates for two new firm transportation services, limited firm in Rate Schedule FT-L and hourly firm in Rate Schedule FT-H.

In addition to the rate change, Vector states that it is submitting various revised tariff sheets for the purpose of correcting and cleaning-up minor errors, making editorial corrections, clarifying certain tariff provisions, and deleting a section of the General Terms and Conditions (section 39) which is no longer applicable. Vector states that it also is electing to modify the terms of its Management of Balancing Agreement service to accommodate the requests of customers for a more broad-based service that could be used by customers who take interruptible service in addition to those who use firm transportation service.

Vector states that copies of its filing have been mailed to all customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 11, 2003.

Magalie R. Salas,
Secretary.

[FR Doc. 03-14510 Filed 6-9-03; 8:45 am]

BILLING CODE 6717-01-P